DEPARTMENT OF TRANSPORTATION

Federal Aviation Administration

Public Notice for Waiver of Aeronautical Land-Use Assurance; James N. Cox Dayton International Airport, Dayton, OH

AGENCY: Federal Aviation Administration, DOT.

ACTION: Notice of intent of waiver with respect to land.

SUMMARY: The Federal Aviation Administration (FAA) is considering a proposal to change a portion of the airport from aeronautical use to non-aeronautical use and to authorize the release of 9.167 acres of airport property for future non-aeronautical use. The land consists of portions of 2 original airport acquired parcels. These parcels were acquired by the City of Dayton from the U.S. Government, Department of Housing and Urban Development without federal participation. There are no requirements to retain the land for airport use. There are no impacts to the airport by allowing the City of Dayton to lease the property. The land is not needed for aeronautical use. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before April 26, 2010.

ADDRESSES: Written comments on the Sponsor's request must be delivered or mailed to: Irene R. Porter, Program Manager, Detroit Airports District Office, 11677 South Wayne Road, Suite 107, Romulus, MI 48174

FOR FURTHER INFORMATION CONTACT: Irene R. Porter, Program Manager, Federal Aviation Administration, Great Lakes Region, Detroit Airports District Office, DET ADO-607, 11677 South Wayne Road, Suite 107, Romulus, Michigan 48174. Telephone Number (734-229-2915)/FAX Number (734-229-2950). Documents reflecting this FAA action may be reviewed at this same location or at James M. Cox Dayton International Airport, Dayton, Ohio.

SUPPLEMENTARY INFORMATION:

Parcel 1

Situated in the Township of Butler, County of Montgomery, State of Ohio and located in Section 9, Town 3, Range 6 East, more particularly described as follows:

Beginning at the intersection of the center lines of Maintenance Drive and Wright Drive; thence northwardly, along the center line of Maintenance Drive, a distance of 250.00 feet to a point; thence north 89 degrees 58′ 45″ east a distance of 30.00 feet the point of beginning of the above described property; thence north 0 degrees 1′ 15″ east a distance of 441.59 feet to a point; thence north 89 degrees 58′ 45″ east a distance of 667.83 feet to a point; thence south 0 degrees 1′ 15″ west a distance of 441.59 feet to a point; thence south 89 degrees 58′ 45″ west a distance of 667.83 feet to a point of beginning.

Containing 6.78 acres.

Parcel 2

Situated in Section 9, Town 3, Range 6 East, in the City of Dayton, Montgomery County, Ohio, being part of a 17.16 acre tract (Parcel 16) conveyed to The City of Dayton as recorded in Deed Book 1616, Page 505 and part of a 12.07 acre tract (Parcel 21) conveyed to The City of Dayton as recorded in Deed Book 1692, Page 321 (Parcel numbers as shown on the James M. Cox Dayton International Airport Annexation Area as recorded in Plat Book 112, Pages 26) (all references to Deed Books, Official Records, Microfiche numbers, Survey Records and Plats refer to the Montgomery County Recorders Office, Montgomery County, Ohio) and being a tract of land more particularly described as follows:

Commencing from the intersection of the centerline of Maintenance Drive and the centerline of Wright Drive as shown on the plat for General Aviation Center No. 1 Streets Hangar Drive, Maintenance Drive, McCauley Drive and Wright Drive Dedications as recorded in Plat Book 178, Page 51, thence along the centerline of said Maintenance Drive North 01°01′58″ East, 250.00 feet;

Thence South 89°00′32″ East, 30.00 feet to the southwest corner of an existing 6.78 acre USATS Lease Parcel;

tThence along the south line of said lease parcel South 89°00′32″ East, 667.83 feet to the southeast corner of said lease parcel;

Thence along the east line of said lease parcel North 01°01′58″ East, 200.86 feet to the Point of Beginning of the following described tract of land;

Thence continuing along said east line North 01°01′58″ East, 231.55 feet;

tThence through said Parcels 16 and 21 the following seven (7) described courses;

(1) North 88°41′43″ East, 102.81 feet;

(2) North 89°18′18″ East, 102.81 feet;

(3) South 72°26′00″ East, 18.06 feet;

(4) North 88°55′06″ East, 13.08 feet;

(5) North 76°00′39″ East, 3.00 feet;

(6) North 32°43′15″ East, 3.00 feet;

(7) North 04°27′14″ West, 9.59 feet to the south right-of-way line of Mccauley Drive;

Thence along the south right-of-way line of Mccauley Drive South 88°54′06″ East, 155.28 feet;

Thence through said Parcels 16 and 21 the following eleven (11) described courses;

(1) South 37°21′55″ East, 9.00 feet;

(2) South 75°02′54″ East, 9.00 feet;

(3) North 88°36′43″ East, 14.14 feet;

(4) South 01°08′13″ East, 197.74 feet;

(5) South 88°00′47″ West, 18.81 feet;

(6) South 59°24′45″ West, 16.50 feet;

(7) South 14°07′30″ West, 16.50 feet;

(8) South 88°49′23″ West, 178.75 feet;

(9) thence South 01°17′06″ East, 29.75 feet;

(10) South 88°56′1O″ West, 165.36 feet;

(11) North 60°38′16″ West, 58.42 feet to the Point of Beginning, containing 2.387 acres.

Issued in Romulus, Michigan, on March 5, 2010.
Joe Hebert,
Acting Manager, Detroit Airports District Office, FAA, Great Lakes Region.

[FR Doc. 2010-6556 Filed 3-24-10; 8:45 am]

BILLING CODE 4910-13-M